DEPARTMENT OF TRANSPORTATION

Federal Aviation Administration

14 CFR Part 39

[Docket No. FAA-2023-1501; Project Identifier MCAI-2023-00647-T; Amendment 39-22560; AD 2023-20-01]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by a report the engine fire extinguishing control and indication system did not illuminate correctly. This AD requires installing a software update to the integrated cockpit control panel (ICCP) remote data concentrator (RDC), as specified in a Transport Canada AD, which is incorporated by reference. The FAA is issuing this AD to address the unsafe condition on these products.

DATES: This AD is effective November 9, 2023.

The Director of the Federal Register approved the incorporation by reference of a certain publication listed in this AD as of November 9, 2023.

ADDRESSES:

AD Docket: You may examine the AD docket at regulations.gov under Docket No. FAA-2023-1501; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• You may view this material at the FAA, Airworthiness Products Section, Operational Safety Branch, 2200 South 216th Street, Des Moines, WA. For information on the availability of this material at the FAA, call 206-231-3195. It is also available in the AD docket at regulations.gov under Docket No. FAA-2023-1501.

FOR FURTHER INFORMATION CONTACT: William Reisenauer, Aviation Safety Engineer, FAA, 1600 Stewart Avenue, Suite 410, Westbury, NY 11590; telephone 516-228-7300; email: 9-avs-nyaco-cos@faa.gov.

SUPPLEMENTARY INFORMATION:

Background

The FAA issued a notice of proposed rulemaking (NPRM) to amend 14 CFR part 39 by adding an AD that would apply to certain Airbus Canada Limited Partnership Model BD-500-1A10 and BD-500-1A11 airplanes. The NPRM published in the Federal Register on July 20, 2023 (88 FR 46702). The NPRM was prompted by AD CF-2023-28, dated May 4, 2023, issued by Transport Canada, which is the aviation authority for Canada (Transport Canada AD CF-2023-28) (also referred to as the MCAI). The MCAI states a deficiency in the design of the engine fire extinguishing control and indication system was discovered. After the loss of one hot battery DC bus, the AVAIL legend on BTL 1 and BTL 2 push button annunciators (PBAs) will not illuminate green upon pressing the corresponding ENG FIRE PBA. This condition affects both L ENG FIRE and R ENG FIRE PBAs on the overhead panel. The misleading indication given by the AVAIL legend on BTL 1 and BTL 2 PBAs will affect the crew's assessment of the situation. The crew may hesitate to extinguish an engine fire despite having access to a functional engine fire extinguishing system, or may reselect the FIRE PBA, resulting in loss of the ability to isolate and extinguish the fire.

In the NPRM, the FAA proposed to require installing a software update to the ICCP RDC, as specified in Transport Canada AD CF-2023-28. The FAA is issuing this AD to address the unsafe condition on these products.

You may examine the MCAI in the AD docket at regulations.gov under Docket No. FAA-2023-1501.

Discussion of Final Airworthiness Directive

Comments

The FAA received one comment from Air Line Pilots Association, International (ALPA) who supported the NPRM without change.

The FAA received an additional comment from Delta Air Lines (Delta). The following presents the comment received on the NPRM and the FAA's response.

Request To Clarify Software Installation Requirements

Delta requested that an additional exception be added to paragraph (h) of the proposed AD to clarify that it is acceptable to use a different method of upgrading the software, using Airbus Canada Limited Partnership Service Bulletin BD500-311001, Issue 001, dated March 14, 2023, only as a reference. Delta explained that it has a different policy for installing software that requires the use of a Portable Maintenance Access Terminal (PMAT), model PMAT2000, instead of a USB device.

The FAA partially agrees with the proposed changes. The FAA agrees to clarify that the PMAT method is permitted, but the FAA will not require the use of a specific model of PMAT. Also, using the service information as a reference must be specified in a note rather than in the paragraph itself. Therefore, a single paragraph (h)(2) has been added to this AD to provide this clarification, and a note has been added regarding the use of Airbus Canada Limited Partnership Service Bulletin BD500-311001, Issue 001, dated March 14, 2023, as a reference.

Conclusion

These products have been approved by the aviation authority of another country and are approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on these products. Except for minor editorial changes, and any other changes described previously, this AD is adopted as proposed in the NPRM. None of the changes will increase the economic burden on any operator.

Related Service Information Under 1 CFR Part 51

Transport Canada AD CF-2023-28 specifies procedures for installing the software update to the ICCP RDC to restore the intended functionality of the PBA green indications. This material is reasonably available because the interested parties have access to it through their normal course of business or by the means identified in the ADDRESSES section.

Costs of Compliance

The FAA estimates that this AD affects 76 airplanes of U.S. registry. The FAA estimates the following costs to comply with this AD:

Estimated Costs for Required Actions
Labor cost | Parts cost | Cost per product | Cost on U.S. operators
Up to 6 work-hours × $85 per hour = Up to $510 | Up to $7,500 | Up to $8,010 | Up to $608,760.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-20-01 Airbus Canada Limited Partnership (Type Certificate Previously Held by C Series Aircraft Limited Partnership (CSALP); Bombardier, Inc.): Amendment 39-22560; Docket No. FAA-2023-1501; Project Identifier MCAI-2023-00647-T.

(a) Effective Date

This airworthiness directive (AD) is effective November 9, 2023.

(b) Affected ADs

None.

(c) Applicability

This AD applies to Airbus Canada Limited Partnership (type certificate previously held by C Series Aircraft Limited Partnership (CSALP); Bombardier, Inc.) Model BD-500-1A10 and BD-500-1A11 airplanes, certificated in any category, as identified in Transport Canada AD CF-2023-28, dated May 4, 2023 (Transport Canada AD CF-2023-28).

(d) Subject

Air Transport Association (ATA) of America Code: 26, Fire protection.

(e) Unsafe Condition

This AD was prompted by a report the engine fire extinguishing control and indication system did not illuminate correctly. The FAA is issuing this AD to address the misleading indication given by the AVAIL legend on BTL 1 and BTL 2 push button annunciators (PBAs) that will affect the crew's assessment of the situation. The unsafe condition, if not addressed, could result in the crew hesitating to extinguish an engine fire despite having access to a functional engine fire extinguishing system, or reselecting the FIRE PBA, resulting in loss of the ability to isolate and extinguish the fire.

(f) Compliance

Comply with this AD within the compliance times specified, unless already done.

(g) Requirements

Except as specified in paragraph (h) of this AD: Comply with all required actions and compliance times specified in, and in accordance with, Transport Canada AD CF-2023-28.

(h) Exceptions to Transport Canada AD CF-2023-28

(1) Where Transport Canada AD CF-2023-28 refers to its effective date, this AD requires using the effective date of this AD.

(2) Where Transport Canada AD CF-2023-28 specifies installing software updates on the integrated cockpit control panel remote data concentrator using a USB-type device, this AD also allows the use of a portable maintenance access terminal (PMAT)-type device.

Note 1 to paragraph (h)(2): When using a PMAT-type device, guidance for upgrading the software can be found in Airbus Canada Limited Partnership Service Bulletin BD500-311001, Issue 001, dated March 14, 2023.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j)(1) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

(1) For more information about this AD, contact William Reisenauer, Aviation Safety Engineer, FAA, 1600 Stewart Avenue, Suite 410, Westbury, NY 11590; telephone 516-228-7300; email: 9-avs-nyaco-cos@faa.gov.

(2) For Airbus Canada Limited Partnership service information identified in this AD that is not incorporated by reference, contact Airbus Canada Limited Partnership, 13100 Henri-Fabre Boulevard, Mirabel, Québec J7N 3C6, Canada; telephone 450-476-7676; email a220_crc@abc.airbus; website a220world.airbus.com. This Airbus Canada Limited Partnership service information is also available at the address specified in paragraph (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2023-28, dated May 4, 2023.

(ii) [Reserved]

(3) For Transport Canada AD CF-2023-28, contact Transport Canada, Transport Canada National Aircraft Certification, 159 Cleopatra Drive, Nepean, Ontario K1A 0N5, Canada; telephone 888-663-3639; email: TC.AirworthinessDirectives-Consignesdenavigabilite.TC@tc.gc.ca; website: tc.canada.ca/en/aviation.

(4) You may view this service information at the FAA, Airworthiness Products Section, Operational Safety Branch, 2200 South 216th Street, Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on September 25, 2023.
Victor Wicklund,
Deputy Director, Compliance & Airworthiness Division, Aircraft Certification Service.

[FR Doc. 2023-22086 Filed 10-4-23; 8:45 am]

BILLING CODE 4910-13-P